DEPARTMENT OF HOMELAND SECURITY

Federal Emergency Management Agency

[Docket ID: FEMA-2024-0006; OMB No. 1660-0110]

Agency Information Collection Activities: Proposed Collection; Comment Request; Nonprofit Security Grant Program (NSGP) Investment Justification & NSGP Prioritization Tracker

AGENCY: Federal Emergency Management Agency, Department of Homeland Security.

ACTION: 60-Day notice of extension and request for comments.

SUMMARY: The Federal Emergency Management Agency (FEMA), as part of its continuing effort to reduce paperwork and respondent burden, invites the general public to take this opportunity to comment on an extension of a currently approved information collection. In accordance with the Paperwork Reduction Act of 1995, this notice seeks comments concerning the Nonprofit Security Grant Program (NSGP). The NSGP provides funding support for security-related enhancements to nonprofit organizations that are at high risk of a terrorist or other extremist attack.

DATES: Comments must be submitted on or before April 9, 2024.

ADDRESSES:

To avoid duplicate submissions to the docket, please submit comments at www.regulations.gov under Docket ID FEMA-2024-0006. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Mark Silveira, Branch Chief, FEMA Grant Programs Directorate, Preparedness Grants Program, 202-786-9598 mark.silveira@fema.dhs.gov. You may contact the Information Management Division for copies of the proposed collection of information at email address: FEMA-Information-Collections-Management@fema.dhs.gov.

SUPPLEMENTARY INFORMATION: The collection of information for the Nonprofit Security Grant Program is mandated by sections 2003 and 2004 of the Homeland Security Act of 2002 (6 U.S.C. 604), as amended by section 101, Title I of the Implementing Recommendations of the 9/11 Commission Act of 2007 (Pub. L. 110-053). These sections mandate that applicants submit plans to describe the proposed division of responsibilities and distribution of funding among the local and tribal government in the high-risk urban area; mandate that applicants submit information in support of the application as the Administrator may reasonably require; mandate that applicants submit their application to each State for review before submission of such application to the Department; and delineate and describe the actions Governors must take if deeming that an application is inconsistent with their States' Homeland Security Strategy.

This program is designed to promote coordination and collaboration in emergency preparedness activities among public and private community representatives, State, and local government agencies.

Collection of Information

Title: FEMA Preparedness Grants: Nonprofit Security Grant Program (NSGP).

Type of Information Collection: Extension of a currently approved information collection.

OMB Number: 1660-0110.

FEMA Forms: FEMA Form FF-207-FY-21-115 (formally 089-25), NSGP Investment Justification; FEMA Form FF-207-FY-21-114 (formerly 089-24), NSGP Prioritization of Investments Tracker.

Abstract: The Nonprofit Security Grant Program provides funding support for security related enhancements to nonprofit organizations that are at high risk of a terrorist or other extremist attack. The program seeks to integrate the preparedness activities of nonprofit organizations that are at high risk of a terrorist or other extremist attack with broader state and local preparedness efforts. The NSGP Investment Justification summarizes the nonprofit organization's mission, vulnerability assessment, and proposed project(s) details. The Prioritization of Investments Tracker is for State Administrative Agencies to use to prioritize which NSGP subapplicants/projects are recommended for funding.

Affected Public: State, Local or Tribal Governments; Not for Profits.

Estimated Number of Respondents: 6,056.

Estimated Number of Responses: 6,056.

Estimated Total Annual Burden Hours: 24,840.

Estimated Total Annual Respondent Cost: $807,221.

Estimated Respondents' Operation and Maintenance Costs: $0.

Estimated Respondents' Capital and Start-Up Costs: $0.

Estimated Total Annual Cost to the Federal Government: $354,515.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-02626 Filed 2-8-24; 8:45 am]

BILLING CODE 9111-78-P